DEPARTMENT OF ENERGY

Federal Energy Regulatory Commission

Combined Notice of Filings #2

September 14, 2007.

Take notice that the Commission received the following exempt wholesale generator filings:

Docket Numbers: EG07-82-000.

Applicants: Hackberry Wind, LLC.

Description: Exempt Wholesale Generator Notice of Self-Certification of Hackberry Wind, LLC under EG07-82.

Filed Date: 09/14/2007.

Accession Number: 20070913-5074.

Comment Date: 5 p.m. Eastern Time on Friday, October 5, 2007.

Take notice that the Commission received the following electric rate filings:

Docket Numbers: ER01-205-022; ER98-2640-020; ER98-4590-018 ER99-1610-026.

Applicants: Xcel Energy Services Inc.; Northern States Power Company; Public Service Company of Colorado; New Century PUB SVC Co. of Co.

Description: Change in Status Report Compliance Filing of Xcel Energy Services Inc. et al.

Filed Date: 09/14/2007.

Accession Number: 20070914-5112.

Comment Date: 5 p.m. Eastern Time on Friday, October 5, 2007.

Docket Numbers: ER02-973-004.

Applicants: UBS AG.

Description: UBS AG submits a Notice of Non-Material Change in Status pursuant to Order 652 in connection with the acquisition by UBS Americas of 100% of interests in AIG Highstar.

Filed Date: 09/12/2007.

Accession Number: 20070914-0124.

Comment Date: 5 p.m. Eastern Time on Wednesday, October 3, 2007.

Docket Numbers: ER02-1330-009; ER03-358-004.

Applicants: Pacific Gas and Electric Company.

Description: Pacific Gas and Electric Co. submits the Generator Special Facilities Agreements, Supplemental Letter Agreements, Amendments, and Generator Interconnection Agreements.

Filed Date: 09/12/2007.

Accession Number: 20070914-0148.

Comment Date: 5 p.m. Eastern Time on Wednesday, October 3, 2007.

Docket Numbers: ER02-2085-005.

Applicants: Northern Iowa Windpower LLC.

Description: Northern Iowa Windpower II, LLC submits an updated market power analysis.

Filed Date: 09/11/2007.

Accession Number: 20070913-0009.

Comment Date: 5 p.m. Eastern Time on Tuesday, October 2, 2007.

Docket Numbers: ER05-925-001.

Applicants: Westar Energy, Inc.

Description: Electric Refund Report and Request for Waiver of Westar Energy, Inc.

Filed Date: 09/14/2007.

Accession Number: 20070914-5016.

Comment Date: 5 p.m. Eastern Time on Friday, October 5, 2007.

Docket Numbers: ER06-819-005.

Applicants: Consolidated Edison Energy MA, Inc.

Description: Compliance filing of refund report of Consolidated Edison Energy, Inc.

Filed Date: 09/12/2007

Accession Number: 20070912-5092.

Comment Date: 5 p.m. Eastern Time on Wednesday, October 3, 2007.

Docket Numbers: ER07-1077-002; ER07-613-005.

Applicants: California Independent System Operator Corporation

Description: The California Independent System Operator submits an instant filing in compliance with the Commission's August 28, 2007 Order.

Filed Date: 09/12/2007.

Accession Number: 20070914-0119.

Comment Date: 5 p.m. Eastern Time on Wednesday, October 3, 2007.

Docket Numbers: ER07-1156-001.

Applicants: PacifiCorp.

Description: PacifiCorp submits agreements reflecting the revised effective dates and notice of termination for the Weyerhauser Agreement etc.

Filed Date: 09/12/2007.

Accession Number: 20070914-0122.

Comment Date: 5 p.m. Eastern Time on Wednesday, October 3, 2007.

Docket Numbers: ER07-1200-000.

Applicants: Allegheny Power.

Description: Motion of Allegheny Power to withdraw its notice of cancellation.

Filed Date: 09/04/2007.

Accession Number: 20070904-5021.

Comment Date: 5 p.m. Eastern Time on Tuesday, September 25, 2007.

Docket Numbers: ER07-1229-001.

Applicants: American Electric Power Service Corp.

Description: American Electric Power Service Corp on behalf of the AEP Operating Companies submits an amendment to the Fourth Revised Service Agreement 1252.

Filed Date: 09/12/2007.

Accession Number: 20070914-0123.

Comment Date: 5 p.m. Eastern Time on Wednesday, October 3, 2007.

Docket Numbers: ER07-1236-001.

Applicants: Yuma Cogeneration Associates.

Description: Yuma Cogeneration Associates submits a redline showing changes from the market-based rate tariff for filing and granting waivers submitted on 8/2/07.

Filed Date: 09/11/2007.

Accession Number: 20070913-0012.

Comment Date: 5 p.m. Eastern Time on Tuesday, September 18, 2007.

Docket Numbers: ER07-1364-000.

Applicants: American Electric Power Service Corp.

Description: American Electric Power Service Corp submits fully executed generation interconnection agreements between AEP Texas Central Company and Texas Gulf Wind LLC.

Filed Date: 09/11/2007.

Accession Number: 20070912-0068.

Comment Date: 5 p.m. Eastern Time on Tuesday, October 2, 2007.

Docket Numbers: ER07-1365-000.

Applicants: The Midwest Independent Transmission System Operator Inc.

Description: The Midwest Independent Transmission System Operator Inc submits its Small Generation Interconnection Agreement among Ewington Energy Systems LLC.

Filed Date: 09/12/2007.

Accession Number: 20070913-0010.

Comment Date: 5 p.m. Eastern Time on Wednesday, October 3, 2007.

Docket Numbers: ER07-1366-000

Applicants: Central Maine Power Company.

Description: Central Maine Power Co submits an executed amendment to the Maine Satellite Agreement with Bangor Hydro-Electric Co.

Filed Date: 09/12/2007.

Accession Number: 20070914-0118.

Comment Date: 5 p.m. Eastern Time on Wednesday, October 3, 2007.

Docket Numbers: ER07-1367-000.

Applicants: American Electric Power Service Corp.

Description: American Electric Power Service Corp on behalf of the AEP Operating Companies submits Second Revised Attachment 1 of the current interconnection and local delivery service agreement.

Filed Date: 09/12/2007.

Accession Number: 20070914-0120.

Comment Date: 5 p.m. Eastern Time on Wednesday, October 3, 2007.

Docket Numbers: ER07-282-002.

Applicants: Southwest Power Pool, Inc.

Description: Southwest Power Pool, Inc submits Exhibit I to correct the 6/27/07 filing of the Firm Point-to-Point Transmission Service with Kansas Municipal Energy Agency.

Filed Date: 09/12/2007.

Accession Number: 20070914-0121.

Comment Date: 5 p.m. Eastern Time on Wednesday, October 3, 2007.

Docket Numbers: ER07-478-001.

Applicants: Midwest Independent Transmission System.

Description: Midwest Independent Transmission System Operator, Inc submits proposed amendments to clarifiy & correct the recently submitted 6/18/07 compliance revisions to the Emergy Markets Tarrif re the ARR.

Filed Date: 09/12/2007.

Accession Number: 20070913-0083.

Comment Date: 5 p.m. Eastern Time on Wednesday, October 3, 2007.

Docket Numbers: ER07-613-005.

Applicants: California Independent System Operator Corporation.

Description: The California Independent System Operator submits an instant filing in compliance with the Commission's August 28, 2007 Order.

Filed Date: 09/12/2007.

Accession Number: 20070914-0119.

Comment Date: 5 p.m. Eastern Time on Wednesday, October 3, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Acting Deputy Director.

[FR Doc. E7-18548 Filed 9-20-07; 8:45 am]

BILLING CODE 6717-01-P